DEPARTMENT OF HEALTH AND HUMAN SERVICES

Health Resources And Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2020, through October 31, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission.

Chapter 35 of title 44, United States Code, related to paperwork reduction, does not apply to information required for purposes of carrying out the Program.

Thomas J. Engels,
Administrator.

List of Petitions Filed

1. Angela White, Memphis, Tennessee, Court of Federal Claims No: 20-1302V

2. Donna Battaglia, Westminster, Maryland, Court of Federal Claims No: 20-1303V

3. David Stibor on behalf of Estate of Yolanda Stibor, Deceased, Las Vegas, Nevada, Court of Federal Claims No: 20-1304V

4. Jennifer Sepate, Cold Spring, Kentucky, Court of Federal Claims No: 20-1305V

5. Miranda Anglim, Philadelphia, Pennsylvania, Court of Federal Claims No: 20-1309V

6. Megan Fetterman, Kansas City, Missouri, Court of Federal Claims No: 20-1310V

7. Dawson Langdon, Boston, Massachusetts, Court of Federal Claims No: 20-1311V

8. Anna Tracy, Boston, Massachusetts, Court of Federal Claims No: 20-1312V

9. Charles J. Keyser, Henderson, Nevada, Court of Federal Claims No: 20-1313V

10. Michelle Wylie, Enfield, Connecticut, Court of Federal Claims No: 20-1314V

11. Jim McTighe and Linda McTighe on behalf of J.M., Phoenix, Arizona, Court of Federal Claims No: 20-1316V

12. Lisa Hrica, Washington, District of Columbia, Court of Federal Claims No: 20-1317V

13. Ronald E. White, Charlotte, North Carolina, Court of Federal Claims No: 20-1319V

14. Latoya McCoy, Port Neches, Texas, Court of Federal Claims No: 20-1321V

15. Carolina Sanchez, Miami, Florida, Court of Federal Claims No: 20-1322V

16. Daniel Mauro, Castle Rock, Colorado, Court of Federal Claims No: 20-1326V

17. Brian Angelone, New York, New York, Court of Federal Claims No: 20-1327V

18. Thomas Roche, New York, New York, Court of Federal Claims No: 20-1328V

19. Karen Garrard, Travelers Rest, South Carolina, Court of Federal Claims No: 20-1331V

20. Drake Dixon, Tacoma, Washington Court of Federal Claims No: 20-1332V

21. Vanessa Richardson, Birmingham, Alabama, Court of Federal Claims No: 20-1333V

22. Young Park, Washington, District of Columbia, Court of Federal Claims No: 20-1334V

23. Donna Maria Peterson, Atlanta, Georgia, Court of Federal Claims No: 20-1335V

24. Francis Zilinski, Boston, Massachusetts, Court of Federal Claims No: 20-1336V

25. Benita Turner on behalf of I.T., Phoenix, Arizona, Court of Federal Claims No: 20-1337V

26. Dianne Rice-Hansen, Bangor, Maine, Court of Federal Claims No: 20-1338V

27. Patricia Hertzog, Brownstown, Pennsylvania, Court of Federal Claims No: 20-1339V

28. Teresa Mazza, Rochester, New York, Court of Federal Claims No: 20-1340V

29. Megan Morey, Lebanon, New Hampshire, Court of Federal Claims No: 20-1341V

30. Christopher Jay Hankins, North Bend, Washington, Court of Federal Claims No: 20-1342V

31. Leroy Cantrell, San Antonio, Texas, Court of Federal Claims No: 20-1343V

32. Sarah Wells, Santa Cruz, California, Court of Federal Claims No: 20-1344V

33. Candace Harvey and Shawn Harvey on behalf of B.H., Boston, Massachusetts, Court of Federal Claims No: 20-1345V

34. Renee Majerus, Cleveland, Ohio, Court of Federal Claims No: 20-1346V

35. Elizabeth A. Adams, Salt Lake City, Utah, Court of Federal Claims No: 20-1347V

36. Javier O. Salazar, Waupun, Wisconsin, Court of Federal Claims No: 20-1348V

37. Leila Marie Beeby, Stillwater, Oklahoma, Court of Federal Claims No: 20-1349V

38. Gregory Monson, Anderson, California, Court of Federal Claims No: 20-1350V

39. Darlene Querio, Fenton, Michigan, Court of Federal Claims No: 20-1351V

40. Veronica Vogel, Pasadena, Texas, Court of Federal Claims No: 20-1352V

41. Suzanne Sullivan, Morristown, New Jersey, Court of Federal Claims No: 20-1353V

42. Tracy Wiggins, Raleigh, North Carolina, Court of Federal Claims No: 20-1354V

43. Raejean Zazzara, Sun City, Arizona, Court of Federal Claims No: 20-1355V

44. Diana Bunten, Blairsville, Georgia, Court of Federal Claims No: 20-1356V

45. Pamela DeZurik, Durham, North Carolina, Court of Federal Claims No: 20-1357V

46. Katherine Cummings and Jared Cummings on behalf of O.C., Newark, Ohio, Court of Federal Claims No: 20-1358V

47. Ashley Voag, Everett, Washington, Court of Federal Claims No: 20-1359V

48. Michael J. Diaz, Riverdale, Georgia, Court of Federal Claims No: 20-1360V

49. Raviteja Bodepudi, Irving, Texas, Court of Federal Claims No: 20-1361V

50. Daniel Proctor, Santa Rosa, California, Court of Federal Claims No: 20-1362V

51. Cindy Smith, Emmett, Idaho, Court of Federal Claims No: 20-1363V

52. Christina Gillespie, Jacksonville, North Carolina, Court of Federal Claims No: 20-1364V

53. Rachel Kellogg, Bellport, New York, Court of Federal Claims No: 20-1365V

54. Donna Knasel, Norristown, Pennsylvania, Court of Federal Claims No: 20-1366V

55. Paul Shuping on behalf of T.S., Salisbury, North Carolina, Court of Federal Claims No: 20-1367V

56. Montra Turner, Louisville, Kentucky, Court of Federal Claims No: 20-1368V

57. Trenell Parfait, Murfreesboro, Tennessee, Court of Federal Claims No: 20-1369V

58. Dallas Chapman, Clive, Iowa, Court of Federal Claims No: 20-1370V

59. Laura Shevlin, Stuart, Florida, Court of Federal Claims No: 20-1372V

60. Charity Frimpong, Frederick, Maryland, Court of Federal Claims No: 20-1373V

61. Jesse D. Krebs, Cleveland, Ohio, Court of Federal Claims No: 20-1374V

62. Robert Anthony Simeone, III on behalf of R.S., Savannah, Texas, Court of Federal Claims No: 20-1375V

63. Maurice Lewis and Susan Lewis on behalf of N.L., South Portland, Maine, Court of Federal Claims No: 20-1376V

64. Rivian Robinson, Boston, Massachusetts, Court of Federal Claims No: 20-1378V

65. Deborah Sands, Tacoma, Washington, Court of Federal Claims No: 20-1379V

66. Sandra Ruiz, Los Angeles, California, Court of Federal Claims No: 20-1380V

67. Edward Vallee, Lakeland, Florida, Court of Federal Claims No: 20-1381V

68. Jean Bub, Antigo, Wisconsin, Court of Federal Claims No: 20-1382V

69. Michelle Tverberg, St. Croix Falls, Wisconsin, Court of Federal Claims No: 20-1383V

70. Laura Hailey, New York, New York, Court of Federal Claims No: 20-1386V

71. Allen Vela on behalf of J.V., Glendale, Arizona, Court of Federal Claims No: 20-1387V

72. Carla Faraldo, Seattle, Washington, Court of Federal Claims No: 20-1389V

73. Taylor Osborne, Brockton, Massachusetts, Court of Federal Claims No: 20-1390V

74. Ben D. Shiriak, Tappahannock, Virginia, Court of Federal Claims No: 20-1391V

75. Patricia Hoover on behalf of L.H., Huntingtown, Maryland, Court of Federal Claims No: 20-1394V

76. Dinna Paulin, Victorville, California, Court of Federal Claims No: 20-1395V

77. Diane Blake, Phoenix, Arizona, Court of Federal Claims No: 20-1398V

78. Monika Clarke on behalf of F.C., Collegeville, Pennsylvania, Court of Federal Claims No: 20-1400V

79. Wendy Riva, New York, New York, Court of Federal Claims No: 20-1401V

80. Leticia Starr, Laguna Niguel, California, Court of Federal Claims No: 20-1402V

81. Michael Antkowiak, Buffalo, New York, Court of Federal Claims No: 20-1404V

82. William Efron, Saint Paul, Minnesota, Court of Federal Claims No: 20-1405V

83. Brandon Sauter, Slidell, Louisiana, Court of Federal Claims No: 20-1406V

84. Ken Wingerter and Shaun Wingerter on behalf of H.W., Marietta, Georgia, Court of Federal Claims No: 20-1408V

85. Shamir Ally, New York, New York, Court of Federal Claims No: 20-1409V

86. Martha Honeycutt on behalf of Estate of Raymond Cecil Honeycutt, Deceased, Burkesville, Kentucky, Court of Federal Claims No: 20-1410V

87. Jami Shanes, Cleveland, Ohio, Court of Federal Claims No: 20-1411V

88. Frank Reuther, Slidell, Louisiana, Court of Federal Claims No: 20-1412V

89. Thomas Tallett, Levittown, Pennsylvania, Court of Federal Claims No: 20-1413V

90. Wade Allen Martin, Reno, Nevada, Court of Federal Claims No: 20-1414V

91. Angela McFadden, Philadelphia, Pennsylvania, Court of Federal Claims No: 20-1415V

92. Mary A. Haley, Suffolk, Virginia, Court of Federal Claims No: 20-1418V

93. Joseph Loverde and Susan Loverde on behalf of K.L., Boston, Massachusetts, Court of Federal Claims No: 20-1419V

94. Anna Ricci, Phoenix, Arizona, Court of Federal Claims No: 20-1420V

95. Robert Jaegle, Peru, Illinois, Court of Federal Claims No: 20-1421V

96. Julia Gillman, Boston, Massachusetts, Court of Federal Claims No: 20-1422V

97. Buddy Kindle, Dallas, Texas, Court of Federal Claims No: 20-1423V

98. Kelli Hill, Groveport, Ohio, Court of Federal Claims No: 20-1424V

99. Frederick Hanstine, Boston, Massachusetts, Court of Federal Claims No: 20-1425V

100. John Jacobs, Flint, Michigan, Court of Federal Claims No: 20-1426V

101. Linda M. Ricker, Slidell, Louisiana, Court of Federal Claims No: 20-1428V

102. Leigh Ann Marshall, Mt. Juliet, Tennessee, Court of Federal Claims No: 20-1429V

103. Sandra Anzalone, Buffalo, New York, Court of Federal Claims No: 20-1430V

104. Russell DeVoe, West Allis, Wisconsin, Court of Federal Claims No: 20-1432V

105. Janice E. Mayer, Issaquah, Washington, Court of Federal Claims No: 20-1434V

106. Shari Gress, Madison, Wisconsin, Court of Federal Claims No: 20-1437V

107. Houston Osburn, Lancaster, California, Court of Federal Claims No: 20-1438V

108. Gwen Snodgrass and Andrew Snodgrass on behalf of A.M.S., San Diego, California, Court of Federal Claims No: 20-1439V

109. Richard Dennis Miszewski, West Allis, Wisconsin, Court of Federal Claims No: 20-1440V

110. Raiza Halpert and Moshe Halpert on behalf of J.H., Monroe, New York, Court of Federal Claims No: 20-1441V

111. Dominique Roberts, Albuquerque, New Mexico, Court of Federal Claims No: 20-1442V

112. Timothy Schwalbe, Milwaukee, Wisconsin, Court of Federal Claims No: 20-1445V

113. Jennifer Mire, Republic, Missouri, Court of Federal Claims No: 20-1449V

114. Douglas J. Hoos, Grand Island, Nebraska, Court of Federal Claims No: 20-1450V

115. Kathleen Runser, College Park, Maryland, Court of Federal Claims No: 20-1451V

116. Karen Valentine, Boston, Massachusetts, Court of Federal Claims No: 20-1453V

117. Peggy Lund, Minnetonka, Minnesota, Court of Federal Claims No: 20-1454V

118. Julia Hunt, Brooklyn, New York, Court of Federal Claims No: 20-1455V

119. Heather Hayes and Mark Hayes on behalf of A.H., Cincinnati, Ohio, Court of Federal Claims No: 20-1457V

120. Kathryn Becker, Boston, Massachusetts, Court of Federal Claims No: 20-1461V

121. Humberto Rodriguez, Stamford, Connecticut, Court of Federal Claims No: 20-1464V

122. Erma Lamb, Boston, Massachusetts, Court of Federal Claims No: 20-1465V

123. Jennifer Inscoe, Forest, Virginia, Court of Federal Claims No: 20-1466V

124. Paula DeBusk, Fayetteville, Arkansas, Court of Federal Claims No: 20-1470V

125. Nicole Fortney, Boston, Massachusetts, Court of Federal Claims No: 20-1471V

126. Michael Kochenderfer, Boston, Massachusetts, Court of Federal Claims No: 20-1472V

127. Julie Roubik on behalf of Estate of Thomas Roubik, Deceased, Holmen, Wisconsin, Court of Federal Claims No: 20-1473V

128. Debra Gadd, Sandusky, Ohio, Court of Federal Claims No: 20-1474V

129. Michael Mendoza on behalf of Christian Mendoza, Chino, California, Court of Federal Claims No: 20-1475V

130. Dianne Byrd, Albuquerque, New Mexico, Court of Federal Claims No: 20-1476V

131. Krista Wall, Encinitas, California, Court of Federal Claims No: 20-1477V

132. Grace Shain on behalf of H.S., Phoenix, Arizona, Court of Federal Claims No: 20-1478V

133. Angela Butts, Washington, District of Columbia, Court of Federal Claims No: 20-1479V

134. Melissa Manie, Moberly, Missouri, Court of Federal Claims No: 20-1482V

135. Carmen C. Salas, San Juan, Puerto Rico, Court of Federal Claims No: 20-1483V

136. Mitzi Lee, Richmond, Virginia, Court of Federal Claims No: 20-1484V

137. Kathryn DeLeon on behalf of N.C., Boston, Massachusetts, Court of Federal Claims No: 20-1485V

138. John Michael Dulaney, Boerne, Texas, Court of Federal Claims No: 20-1488V

139. Peggy McCarter, Greensboro, North Carolina, Court of Federal Claims No: 20-1490V

140. Francine Russo, Athens, Georgia, Court of Federal Claims No: 20-1491V

141. Kelli Wilson, Caldwell, Idaho, Court of Federal Claims No: 20-1492V

142. Melissa Greenberg and Richard Greenberg on behalf of M.G., Boston, Massachusetts, Court of Federal Claims No: 20-1493V

143. Nina Cupples, Rutherford, Tennessee, Court of Federal Claims No: 20-1494V

144. Rodney Burrill, Seattle, Washington, Court of Federal Claims No: 20-1495V

145. Veronica Williams, Dallas, Texas, Court of Federal Claims No: 20-1499V

146. Maria Ramos, The Woodlands, Texas, Court of Federal Claims No: 20-1500V

147. Audrey Chinnock, Overland Park, Kansas, Court of Federal Claims No: 20-1501V

148. Regina Mileouski, Dresher, Pennsylvania, Court of Federal Claims No: 20-1502V

149. Luis Rodriguez, Richmond, Virginia, Court of Federal Claims No: 20-1503V

150. Debra S. Colgan, White Plains, New York, Court of Federal Claims No: 20-1505V

151. Kathleen Finn, Boston, Massachusetts, Court of Federal Claims No: 20-1506V

[FR Doc. 2020-25287 Filed 11-16-20; 8:45 am]

BILLING CODE 4165-15-P